SECURITIES AND EXCHANGE COMMISSION

[Release No. 34-72193; File No. SR-FINRA-2014-006]

Self-Regulatory Organizations; Financial Industry Regulatory Authority, Inc.; Order Instituting Proceedings To Determine Whether To Approve or Disapprove a Proposed Rule Change Relating to Per Share Estimated Valuations for Unlisted DPP and REIT Securities

May 20, 2014.

Correction

In notice document 2014-12072 appearing on pages 30217-30219 in the issue of May 27, 2014 make the following correction:

On page 30219, in the first column, in the first and second line from the bottom, “July 11, 2014” should read “June 26, 2014”.

[FR Doc. C1-2014-12072 Filed 5-30-14; 8:45 am]

BILLING CODE 1505-01-D